FEDERAL COMMUNICATIONS COMMISSION

47 CFR Part 73

[DA 04-3514, MB Docket No. 02-376, RM-10617]

Radio Broadcasting Services; Sells, AZ

AGENCY: Federal Communications Commission.

ACTION: Final rule.

SUMMARY: This document grants a petition filed by Rural Pima Broadcasting proposing the allotment of Channel 285 at Sells, Arizona, as its first local aural broadcast service. See 67 FR 78401, published December 24, 2002. This document also denies a counterproposal filed by Lakeshore Media, LLC proposing to substitute Channel 285C3 for Channel 285C2 at Willcox, and reallot Channel 285C3 from Willcox to Davis-Monthan Air Force Base, Arizona (“Davis-Monthan AFB”), as a first local aural transmission service. Lakeshore's counterproposal also included the allotment of Channels 283C2 and 245C2 at Willcox to provide service to unserved and underserved areas created by the reallotment of Channel 285C3 from Willcox to Davis-Monthan AFB. Channel 285A can be allotted at Sells at a site 9.3 kilometers (5.8 miles) south of the community at coordinates 31-49-44 NL and 111-53-28 WL. This site has received concurrence from the government of Mexico as a specially negotiated restricted allotment limited to 1.1 kW ERP and 100 m HAAT or the equivalent along the 123.2 degree azimuth toward Station XHNI(FM) Channel 286B, Nogales, Sonora, Mexico. See Supplementary Information.

DATES: Effective January 6, 2005.

ADDRESSES: Federal Communications Commission, 445 Twelfth Street, SW., Washington, DC 20554.

FOR FURTHER INFORMATION CONTACT: Victoria M. McCauley, Media Bureau, (202) 418-2180.

SUPPLEMENTARY INFORMATION: This is a summary of the Commission's Report and Order, MB Docket No. 02-376, adopted November 17, 2004, and released November 22, 2004. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC 20054, telephone 800-378-3160 or http://www.BCPIWEB.com. The Commission will send a copy of this Report and Order in a report to be sent to Congress and the General Accounting Office pursuant to the Congressional Review Act, see 5 U.S.C. 801(a)(1)(A).

Lakeshore's counterproposal is denied. Its proposal to allot Channels 282C2 and 245C2 at Willcox to avoid unserved and underserved areas as “backfill” allotments is precluded by the Commission's decision in Pacific Broadcasting of Missouri, LLC, 18 FCC Rcd 2291 (2003); recon. den. 19 FCC Rcd 10,950 (2004). Without the backfill allotments, the Lakeshore counterproposal would leave behind vast unserved and underserved areas, i.e., white and gray area. The loss area resulting from Lakeshore's proposed substitution of Channel 285C3 for Channel 285C3 at Willcox and the reallotment of Channel 285C3 from Willcox to Davis-Monthan AFB would contain 8,560.3 square kilometers with a population of 13,842. An area of 2,142 square kilometers with a population of 2,846 would be left with no aural reception service, and an area of 1,068 square kilometers with a population of 1,022 would be left with one aural reception service.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Arizona, is amended by adding Sells, Channel 285A.

Federal Communications Commission.
John A. Karousos,
Assistant Chief, Audio Division, Media Bureau.

[FR Doc. 04-27041 Filed 12-8-04; 8:45 am]

BILLING CODE 6712-01-P